DEPARTMENT OF STATE

[Public Notice 5783]

Culturally Significant Objects Imported for Exhibition Determinations: “Encompassing the Globe: Portugal and the World in the 16th and 17th Centuries”

ACTION: Notice, correction.

SUMMARY: On January 24, 2007, notice was published on page 3189 of the Federal Register (volume 72, number 15) of determinations made by the Department of State pertaining to the exhibit, “Encompassing the Globe: Portugal and the World in the 16th and 17th Centuries.” The referenced notice is corrected as to additional objects to be included in the exhibition. Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects to be included in the exhibition “Encompassing the Globe: Portugal and the World in the 16th and 17th Centuries”, imported from abroad for temporary exhibition within the United States, are of cultural significance. The objects are imported pursuant to a loan agreement with the foreign owner or custodian. I also determine that the exhibition or display of the exhibit objects at the Arthur M. Sackler Gallery, Washington, DC, from on or about June 23, 2007, until on or about September 16, 2007, and at possible additional exhibitions or venues yet to be determined, is in the national interest. Public Notice of these Determinations is ordered to be published in the Federal Register.

FOR FURTHER INFORMATION CONTACT: For further information, including a list of the exhibit objects, contact Wolodymyr Sulzynsky, Attorney-Adviser, Office of the Legal Adviser, U.S. Department of State (telephone: (202) 453-8050). The address is U.S. Department of State, SA-44, 301 4th Street, SW., Room 700, Washington, DC 20547-0001.

Dated: April 25, 2007.
C. Miller Crouch,
Principal Deputy Assistant Secretary for Educational and Cultural Affairs, Department of State.

[FR Doc. E7-8473 Filed 5-2-07; 8:45 am]

BILLING CODE 4710-05-P